DEPARTMENT OF DEFENSE

Office of the Secretary

Meeting of the President's Commission on Care for America's Returning Wounded Warriors

AGENCY: Department of Defense.

ACTION: Federal Advisory Committee meeting notice.

SUMMARY: Pursuant to the Federal Advisory Committee Act of 1972 (5 U.S.C., Appendix, as amended), the Sunshine in the Government Act of 1976 (5 U.S.C. 552b, as amended) and 41 Code of Federal Regulations (CFR) 102-3.140 thorough 160, the Department of Defense announces the forthcoming public meeting:

Name of Committee: President's Commission on Care for America's Returning Wounded Warriors (hereafter referred to as the Commission).

Date of Meeting: May 4, 2007.

Time of Meeting: 10 a.m. to (To Be Determined).

Place of Meeting: Hilton San Antonio Airport; 611 NW., Loop 410, San Antonio, Texas 78216; (210) 340-6060.

Purpose of Meeting: To obtain, review and evaluate information related to the Commission's mission to examine the care provided to wounded service members. The Commission will receive briefings on topics relating to the care and rehabilitation of wounded service members.

Agenda:

9 a.m. to 9:45 a.m. Administrative Work Meeting (Not Open to the Public)

10 a.m.—To Be Determined (Public Session)

Presentations:

A. Rehabilitation (Ortho, Burns, TBI)

B. Traumatic Brain Injury

C. Med Hold/Holdover Barracks

D. System Issues

E. Public Comment

F. Wrap Up

Prior to its public meeting, various subcommittees of the Commission will conduct preparatory work meetings in the San Antonio area to gather information, conduct research and analyze relevant issues and facts in preparation for a meeting of the Commission. Pursuant to section 102-3.160(a) of 41 Code of Federal Regulations (CFR), these subcommittee meetings are not open to the public, and the subcommittees are required to report their findings to the Commission for further deliberation.

The Commission's May 4, 2007 meeting at the Hilton San Antonio Airport, subject to the availability of seating, is open to the public.

Interested persons or organizations may submit written statements for consideration by the Commission at any time or in response to the stated agenda of a planned meeting. Persons desiring to make an oral presentation or submit a written statement to the Commission for the May 3-4, 2007 meeting must notify the point of contact listed below no later than April 27, 2007.

Oral presentations by members of the public will be permitted only on 4 May at 1 to 1:30 before the full Commission. Presentations will be limited to 5 minutes. The Executive Director and the Designated Federal Official will select individuals for oral presentations and notify them in advance of the opportunity to make a 5 minute presentation to the Commission.

The Number of oral presentations to be made will depend on the number of requests received from members of the public. Each person desiring to make an oral presentation must provide the point of contact listed below with one (1) copy of the presentation by April 27, 2007, 5 p.m. and one copy of any material that is intended for distribution at the meeting.

Persons submitting a written statement must submit one copy of the statement to the Commission staff by April 27, 2007, 5 p.m.

Point of Contact is Denise Dailey or Adrianne Holloway, toll free (877) 588-2035 or Fax statements (703) 588-2046.

The Commission's April 17, 2007 decision to schedule a meeting for May 3-4, 2007 and the delay in finalizing the meeting agenda made it impossible for the Commission to publish a Federal Register meeting notice for the 15 calendar days required by 41 CFR 102-3.150(a). Accordingly, the Committee Management Officer for the Department of Defense, pursuant to 41 CFR 102-3.150(b), waives the 15 calendar day notification requirement for this meeting.

For Further Information on Submitting Statements Contact: Col. Denise Dailey or Adrianne Holloway, toll free (877) 588-2035 or Fax statements (703) 588-2046.

Dated: April 20, 2007.
L.M. Bynum,
Alternate OSD Federal Register Liaison Officer, DoD.

[FR Doc. 07-2060 Filed 4-23-07; 11:20 am]

BILLING CODE 5001-06-M